DEPARTMENT OF TRANSPORTATION

Federal Highway Administration

Notice of Final Federal Agency Actions on Proposed Highway in California

AGENCY: Federal Highway Administration (FHWA), DOT.

ACTION: Notice of limitation on claims for judicial review of actions by the California Department of Transportation (Caltrans), pursuant to 23 U.S.C. 327.

SUMMARY: The FHWA, on behalf of Caltrans, is issuing this notice to announce actions taken by Caltrans that are final. The actions relate to a proposed highway project, the U.S. Highway 101 Managed Lanes Project from post miles 50.6 in Santa Clara County to 21.8 in San Mateo County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before May 10, 2019. If the Federal law that authorizes judicial review of a claim provides a time period of less than 150 days for filing such claim, then that shorter time period applies.

FOR FURTHER INFORMATION CONTACT: For Caltrans: Yolanda Rivas, Environmental Branch Chief, 111 Grand Avenue MS 8B, Oakland, CA 94612, 510-286-6216 (Voice), email yolanda.rivas@dot.ca.gov. For FHWA, contact Larry Vinzant at (916) 498-5040 or email larry.vinzant@dot.gov.

SUPPLEMENTARY INFORMATION: Effective July 1, 2007, the Federal Highway Administration (FHWA) assigned, and Caltrans assumed, environmental responsibilities for this project pursuant to 23 U.S.C. 327. Notice is hereby given that Caltrans has taken final agency actions subject to 23 U.S.C. 139(l)(1) by issuing licenses, permits, and approvals. The U.S. Highway 101 Managed Lanes Project proposes to provide continuous managed lanes in the northbound and southbound directions of US 101 in Santa Clara and San Mateo counties from the terminus of the existing high-occupancy vehicle (HOV) lanes in northern Santa Clara County to north of Interstate 380. The actions by the Federal agencies, and the laws under which such actions were taken, are described in the Environmental Assessment (EA) and Finding of No Significant Impact (FONSI) for the project, approved on November 30, 2018. The EA, FONSI, and other project records are available by contacting Caltrans at the address provided above. The Caltrans EA and FONSI can be viewed and downloaded from the project website at http://www.dot.ca.gov/d4/101managedlanes/.

This notice applies to all Federal agency decisions as of the issuance date of this notice and all laws under which such actions were taken, including but not limited to:

1. National Environmental Policy Act (NEPA)

2. Fixing America's Surface Transportation Act (Fast Act)

3. Clean Air Act

4. Federal-Aid Highway Act

5. Clean Water Act

6. Historic Sites Act

7. Section 106 of the National Historic Preservation Act

8. Archeological Resources Protection Act

9. Archeological and Historic Preservation Act

10. Antiquities Act

11. Endangered Species Act

12. Migratory Bird Treaty Act

13. Fish and Wildlife Coordination Act

14. Magnuson-Stevens Fishery Conservation and Management Act

15. Section 4(f) of the Department of Transportation Act

16. Civil Rights Act, Title VI

17. Farmland Protection Policy Act

18. Uniform Relocation Assistance and Real Property Acquisition Policies Act

19. Rehabilitation Act

20. Americans With Disabilities Act

21. Comprehensive Environmental Response, Compensation, and Liability Act (CERCLA)

22. Resource Conservation and Recovery Act (RCRA)

23. Safe Drinking Water Act

24. Occupational Safety and Health Act

25. Atomic Energy Act

26. Toxic Substances Control Act

27. Federal Insecticide, Fungicide and Rodenticide Act

28. E.O. 11990 Protection of Wetlands; E.O. 11988 Floodplain Management

29. E.O. 12898, Federal Actions To Address Environmental Justice in Minority Populations and Low Income Populations

30. E.O. 12088, Federal Compliance With Pollution Control Standards

(Catalog of Federal Domestic Assistance Program Number 20.205, Highway Planning and Construction. The regulations implementing Executive Order 12372 regarding intergovernmental consultation on Federal programs and activities apply to this program.)

Authority: 23 U.S.C. 139(l)(1).

Tashia J. Clemons,
Director, Planning and Environment, Federal Highway Administration, Sacramento, California.

[FR Doc. 2018-26758 Filed 12-10-18; 8:45 am]

BILLING CODE 4910-RY-P